DEPARTMENT OF COMMERCE

National Oceanic and Atmospheric Administration

[I.D. 051801C]

Marine Mammals; Permit No. 821-1588-00

AGENCY: National Marine Fisheries Service (NMFS), National Oceanic and Atmospheric Administration (NOAA), Commerce.

ACTION: Issuance of permit.

SUMMARY: Notice is hereby given that Texas A&M University, Department of Marine Biology, P.O. Box 1675, Galveston, Texas 77551 [Principal Investigator: Dr. Randall W. Davis] has been issued a permit to take sperm whales (Physeter macrocephalus), various small cetacean species, and Weddell seals (Leptonychotes weddelli) for purposes of scientific research.

ADDRESSES: The permit and related documents are available for review upon written request or by appointment in the following office(s):

Permits and Documentation Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Ruth Johnson or Tammy Adams, (301)713-2289.

SUPPLEMENTARY INFORMATION: On November 20, 2000, notice was published in the Federal Register (65 FR 69737) that a request for a scientific research permit to take marine mammals had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226). Issuance of this permit, as required by the ESA, was based on a finding that such permit (1) was applied for in good faith, (2) will not operate to the disadvantage of the endangered species which is the subject of this permit, and (3) is consistent with the purposes and policies set forth in section 2 of the ESA.

Dated: June 18, 2001.
Ann D. Terbush,
Chief, Permits and Documentation Division, Office of Protected Resources, National Marine Fisheries Service.

[FR Doc. 01-15648 Filed 6-20-01; 8:45 am]

BILLING CODE 3510-22-S